DEPARTMENT OF HOMELAND SECURITY

Coast Guard

[USCG-2003-15779]

Towing Safety Advisory Committee and National Boating Safety Advisory Council

AGENCY: Coast Guard, DHS.

ACTION: Notice of meeting.

SUMMARY: The Commercial/Recreational Boating Interface Working Group of the Towing Safety Advisory Committee (TSAC) will meet with representatives of the National Boating Safety Advisory Council to discuss issues relating to towboat/barge and recreational boat navigation lights and communications. The meeting will be open to the public.

DATES: The Working Group will meet on Tuesday, August 19, 2003, from 9 a.m. to 3 p.m. The meeting may close early if all business is finished. Written material and requests to make oral presentations should reach the Coast Guard on or before August 15, 2003. Requests to have a copy of your material distributed to each member of the Working Group should reach the Coast Guard on or before August 8, 2003.

ADDRESSES: The Working Group will meet in room 1303, U.S. Coast Guard Headquarters, 2100 Second Street SW., Washington, DC. Send written material and requests to make oral presentations to Mr. Gerald Miante, Commandant (G-MSO-1), U.S. Coast Guard Headquarters, 2100 Second Street SW., Washington, DC 20593-0001. This notice and related documents are available on the Internet at http://dms.dot.gov under the docket number USCG-2003-15779.

FOR FURTHER INFORMATION CONTACT: Mr. Miante, Assistant Executive Director of TSAC, telephone 202-267-0214, fax 202-267-4570, or e-mail gmiante@comdt.uscg.mil.

SUPPLEMENTARY INFORMATION: Notice of the meeting is given under the Federal Advisory Committee Act, 5 U.S.C. App. 2 (Pub. L. 92-463, 86 Stat.770, as amended).

Procedural

The meeting is open to the public. Please note that the meeting may close early if all business is finished. At the Chair's discretion, members of the public may make oral presentations during the meeting. If you would like to make an oral presentation at the meeting, please notify the Assistant Executive Director no later than August 15, 2003. Written material for distribution at the meeting should reach the Coast Guard no later than August 8, 2003.

Information on Services for Individuals With Disabilities

For information on facilities or services for individuals with disabilities or to request special assistance at the meeting, contact the Assistant Executive Director as soon as possible.

Dated: July 28, 2003.
Howard L. Hime,
Acting Director of Standards, Marine Safety, Security and Environmental Protection.

[FR Doc. 03-19753 Filed 8-1-03; 8:45 am]

BILLING CODE 4910-15-P